DEPARTMENT OF TRANSPORTATION

Office of the Secretary

[Docket No. DOT-OST-2008-0088]

Agency Information Collection Activities; Request for Comments; Clearance of Renewal Approval of Information Collection: Procedures for Transportation Drug and Alcohol Testing Program

AGENCY: Office of the Secretary (OST), DOT.

ACTION: Notice and request for comments.

SUMMARY: The OST invite public comments about our intention to request the Office of Management and Budget's (OMB) approval to renew an information collection. The collection involves Transportation Drug and Alcohol Testing. The information to be collected will be used to document tests conducted and actions taken to ensure safety in the workplace and/or is necessary because under the Omnibus Transportation Employee Testing Act of 1991, DOT is required to implement a drug and alcohol testing program in various transportation-related industries. We are required to publish this notice in the Federal Register by the Paperwork Reduction Act of 1995.

DATES: Please submit comments by May 16, 2008.

ADDRESSES: Federal eRulemaking Portal: Go to http://www.regulations.gov. Follow the online instructions for submitting comments.

Mail or Hand Delivery: U.S. Department of Transportation, Dockets Management Facility, 1200 New Jersey Avenue, SE., West Building, Room W12-140, Washington, DC 20590. Fax: 202-493-2251.

FOR FURTHER INFORMATION CONTACT: Bohdan Baczara, (202) 366-6364, Office of Drug and Alcohol Policy and Compliance, Office of the Secretary, U.S. Department of Transportation, 1200 New Jersey Avenue, SE., Room W62-317, Washington, DC 20590. Office hours are from 8 a.m. to 4:30 p.m., Monday through Friday, except Federal holidays.

SUPPLEMENTARY INFORMATION: Title: Procedures for Transportation Drug and Alcohol Testing Program.

OMB Control No: 2105-0529.

Background: Under the Omnibus Transportation Employee Testing Act of 1991, DOT is required to implement a drug and alcohol testing program in various transportation-related industries. This specific requirement is elaborated in 49 CFR part 40, Procedures for Transportation Workplace Drug and Alcohol Testing Programs. Included in this program are the U.S. Department of Transportation Alcohol Testing Form (ATF) and the DOT Drug and Alcohol Testing Management Information System (MIS) Data Collection Form. The ATF includes the employee's name, the type of test taken, the date of the test, and the name of the employer. Custody and control is essential to the basic purpose of the alcohol testing program. Data on each test is conducted, including test results, are necessary to document test conducted and actions taken to ensure safety in the workplace.

The MIS form includes employer-specific drug and alcohol testing information such as the reason for the test and the cumulative number of results. The MIS data is used by each of the affected DOT Agencies (i.e., Federal Aviation Administration, Federal Transit Administration, Federal Railroad Administration, Federal Motor Carrier Safety Administration, and the Pipeline and Hazardous Materials Safety Administration) and the United States Coast Guard when calculating their random testing rates. Provide information for the following sections that most effectively describe the nature and estimates for your particular collection.

Respondents: This information will be used by transportation employers, Department representatives, and a variety of service agents. Estimated total number of respondents are 2,783,195.

Frequency: The information will be collected annually.

Estimated Total Annual Burden Hours: 695,300.

Public Comments Invited: You are asked to comment on any aspect of this information collection, including: (1) Whether the proposed collection is necessary for DOT's proper performance, including whether the information will have practical utility; (2) the accuracy of the Department's estimated burden of the proposed information collection; (3) ways for the DOT to enhance the quality, utility, and clarity of the collected information; and (4) ways that the burden could be minimized without reducing the quality of the collected information on respondents, including the use of automated collection techniques or other forms of information technology. The agency will summarize and/or include your comments in the request for OMB's clearance of this information collection.

Authority: The Paperwork Reduction Act of 1995; 44 U.S.C. Chapter 35, as amended; and 49 CFR 1.48.

Issued on: March 11, 2008.
Donna K. Seymour,
Associate Chief Information Officer, IT Policy Oversight.

[FR Doc. E8-5289 Filed 3-14-08; 8:45 am]

BILLING CODE 4910-9X-P